DEPARTMENT OF COMMERCE

Foreign-Trade Zones Board

[B-22-2014]

Foreign-Trade Zone 26—Atlanta, Georgia, Application for Additional Production Authority PBR, Inc. d/b/a SKAPS Industries, (Non-Woven Geotextiles), Athens, Georgia

Correction

In notice document 2014-06248, appearing on pages 15725-15726, in the issue of Friday, March 21, 2014, make the following correction:

On page 15725, in the third column, in the last paragraph, on the last line, “May 20, 2014.” should read “June 4, 2014.”

[FR Doc. C1-2014-06248 Filed 3-27-14; 8:45 am]

BILLING CODE 1505-01-D